NATIONAL ARCHIVES AND RECORDS ADMINISTRATION

[NARA-2018-002]

Agency Information Collection Activities: Proposed Collection; Comment Request

AGENCY: National Archives and Records Administration (NARA).

ACTION: Notice of proposed extension request.

SUMMARY: NARA proposes to request an extension from the Office of Management and Budget (OMB) of approval to collect information from individuals requesting a research card. People must have a research card to use original archival records in a NARA facility. We invite you to comment on certain aspects of this proposed information collection.

DATES: We must receive written comments on or before December 26, 2017.

ADDRESSES: Send comments to Paperwork Reduction Act Comments (MP), Room 4100, National Archives and Records Administration, 8601 Adelphi Road, College Park, MD 20740-6001, or email them to tamee.fechhelm@nara.gov.

FOR FURTHER INFORMATION CONTACT: Contact Tamee Fechhelm by telephone at 301-837-1694, or by email at tamee.fechhelm@nara.gov, with requests for additional information or copies of the proposed information collection and supporting statement.

SUPPLEMENTARY INFORMATION: We invite the public and other Federal agencies to comment on information collections we propose to renew. We submit proposals to renew information collections first through a public comment period and then to OMB for review and approval pursuant to the Paperwork Reduction Act of 1995 (PRA; 44 U.S.C. 3501 et seq.). We invite comments and suggestions on one or more of the following points: (a) Whether the proposed information collection is necessary for NARA to properly perform its functions, including whether the proposed information collection will have practical utility; (b) our estimate of the information collection's burden on respondents; (c) ways to enhance the quality, utility, and clarity of the information we propose to collect; (d) ways to minimize the burden on respondents of collecting the information, including through use of information technology; and (e) whether this collection affects small businesses. We will summarize any comments you submit and include the summary in our request for OMB approval. All comments will become a matter of public record. In this notice, NARA solicits comments concerning the following information collection:

Title: Researcher Application.

OMB number: 3095-0016.

Agency form number: NA Form 14003.

Type of review: Regular.

Affected public: Individuals or households, business or other for-profit, not-for-profit institutions, Federal, State, Local or Tribal Government.

Estimated number of respondents: 15,967.

Estimated time per response: 8 minutes.

Frequency of response: On occasion.

Estimated total annual burden hours: 2,129 hours.

Abstract: The information collection is prescribed by 36 CFR 1254.8. The collection is an application for a research card. Respondents are individuals who wish to use original archival records in a NARA facility and we request their name, address, contact information, and information about the research purpose and the records they wish to access. NARA uses the information to screen individuals, to identify which types of records they should use, and to allow further contact.

Swarnali Haldar,
Executive for Information Services/CIO.

[FR Doc. 2017-23446 Filed 10-26-17; 8:45 am]

BILLING CODE 7515-01-P